SECURITIES AND EXCHANGE COMMISSION

[Release No. 34-85180; File No. SR-CboeEDGX-2018-043]

Self-Regulatory Organizations; Cboe EDGX Exchange, Inc.; Notice of Deemed Approval of a Proposed Rule Change, as Modified by Amendments No. 1 and 2, To Allow the Post Only Order Instruction on Complex Orders

February 22, 2019.

On October 1, 2018, Cboe EDGX Exchange, Inc. (“Exchange”) filed with the Securities and Exchange Commission (“Commission”), pursuant to Section 19(b)(1) of the Securities Exchange Act of 1934 (“Act”) ¹ and Rule 19b-4 thereunder,² a proposed rule change to allow the Post Only order instruction on complex orders that route to its electronic book.

¹ 15 U.S.C. 78s(b)(1).

² 17 CFR 240.19b-4.

The proposed rule change was published for comment in the Federal Register on October 16, 2018.³ On November 21, 2018, the Exchange filed Amendment No. 1 to the proposal.⁴ On November 27, 2018, pursuant to Section 19(b)(2) of the Act,⁵ the Commission designated a longer period within which to approve the proposed rule change, disapprove the proposed rule change, or institute proceedings to determine whether to disapprove the proposed rule change, as modified by Amendment No. 1.⁶ On December 14, 2018, the Exchange filed Amendment No. 2 to the proposal.⁷ The Commission received no comment letters on the proposed rule change.

³ See Securities Exchange Act Release No. 84393 (October 10, 2018), 83 FR 52264.

⁴ The text of Amendment No. 1 is available at https://www.sec.gov/comments/sr-cboeedgx-2018-043/srcboeedgx2018043-4678696-176565.pdf.

⁵ 15 U.S.C. 78s(b)(2).

⁶ See Securities Exchange Act Release No. 84663, 83 FR 62390 (Dec. 3, 2018). The Commission designated January 14, 2019, as the date by which it should approve, disapprove, or institute proceedings to determine whether to disapprove the proposed rule change.

⁷ The text of Amendment No. 2 is available at https://www.sec.gov/comments/sr-cboeedgx-2018-043/srcboeedgx2018043-4778850-176845.pdf.

As of January 14, 2019, pursuant to Section 19(b)(2)(D) of the Act,⁸ the proposed rule change (SR-CboeEDGX-2018-043), as modified by Amendments No. 1 and 2, was deemed to have been approved by the Commission.

⁸ 15 U.S.C. 78s(b)(2)(D).

For the Commission, by the Division of Trading and Markets, pursuant to delegated authority.⁹
⁹ 17 CFR 200.30-3(a)(12).
Eduardo A. Aleman,
Deputy Secretary.

[FR Doc. 2019-03471 Filed 2-27-19; 8:45 am]

BILLING CODE 8011-01-P